ENVIRONMENTAL PROTECTION AGENCY

[OH156-1; FRL-7453-5]

Response To Petition To Withdraw Approval, Delegation, and Authorization To Administer Federal Environmental Programs; OH

AGENCY: Environmental Protection Agency (EPA).

ACTION: Notice of final action.

SUMMARY: In 1997, the Ohio Citizen Action, the Ohio Environmental Council, Rivers Unlimited, and the Ohio Sierra Club submitted a petition requesting EPA to withdraw approval, delegation, or authorization from the State of Ohio to administer certain air, water, and waste Federal environmental programs based on the Ohio Environmental Audit Privilege and Immunity Law. The petitioners supplemented and amended the petition in 1998, 1999, and 2000 requesting EPA to review Ohio's implementation of certain air, water, and waste programs. EPA is denying the petition because EPA did not find sufficient evidence to justify withdrawal or revocation of the programs covered by the petition.

DATES: Under section 307(b) of the Clean Air Act, petitions for judicial review of today's action denying the petition to withdraw or revoke Clean Air Act programs may be filed in the United States Court of Appeals for the appropriate circuit on or before April 25, 2003.

FOR FURTHER INFORMATION CONTACT: Maria Gonzalez, Environmental Protection Agency, Region 5, 77 W. Jackson Boulevard (C14-J), Chicago, Illinois 60604, phone number (312) 886-6630.

SUPPLEMENTARY INFORMATION: In 1997, the Ohio Citizen Action, the Ohio Environmental Council (which was later replaced by the Ohio Public Interest Research Group), Rivers Unlimited, and the Ohio Sierra Club, submitted a petition requesting EPA to withdraw approval, delegation, or authorization from the State of Ohio to administer certain federal environmental programs. The petition initially requested EPA to withdraw or revoke certain air, water, and waste environmental programs based on the Ohio Environmental Audit Privilege and Immunity Law (the Audit Law). Petitioners supplemented and amended the petition on September 18, 1998, August 4, 1999, and January 27, 2000, to add allegations about how the Ohio Environmental Protection Agency (Ohio EPA) was implementing the Resource Conservation and Recovery Act hazardous waste program and solid waste permit program; the Clean Water Act National Pollutant Discharge Elimination System (NPDES) program; and the Clean Air Act Standards of Performance for New Stationary Sources (NSPS), New Source Review (NSR), Prevention of Significant Deterioration (PSD), non-compliance penalties, and Title V programs.

On December 21, 2000, EPA denied the Audit Law component of the petition, but continued its review of Ohio EPA's implementation of the programs covered by the amended and supplemented petition.

Because the petition seeks withdrawal or revocation of programs, the focus of our review was whether it is appropriate to initiate withdrawal or revocation proceedings based on the withdrawal criteria for each of the affected programs. The Clean Air Act, Clean Water Act, and Resource Conservation and Recovery Act and their implementing regulations set forth the withdrawal or revocation criteria for programs authorized, delegated or approved pursuant to these acts. EPA reviewed Ohio EPA's implementation of each program based on the criteria for that program.

Beginning in January of 2000, EPA Region 5 staff conducted reviews of Ohio's environmental programs covered by the petition. EPA staff visited Ohio EPA district and central offices, the Ohio Attorney General's Office and local air agencies; interviewed employees; and reviewed files. EPA staff also reviewed the affidavits submitted by the petitioners in July and August of 2000. EPA reviewed how Ohio EPA implemented the affected programs during the period from 1995 to 2000.

On September 4, 2001, EPA Region 5 made public a preliminary report, dated August 30, 2001, entitled “Draft Report on U.S. EPA Review of Ohio Environmental Programs” (Draft Report) summarizing the petitioners' allegations and setting forth its preliminary findings with respect to the requests to withdraw or revoke the eight environmental programs. EPA held two public meetings in Columbus, Ohio on November 13, 2001, to answer questions and take comments on the report. EPA accepted comments from the public until January 14, 2002.

The Draft Report also made recommendations that, if implemented, would alleviate concerns related to the withdrawal criteria and obviate the need for further review. EPA followed up with Ohio EPA on the recommendations made in the Draft Report. Ohio EPA has taken steps in each program that should benefit its implementation of those programs.

A final report and background documents which detail EPA's findings with respect to each allegation in the petition for each program, along with a responsiveness summary that responds to the comments made at the public meeting and during the comment period are at the following EPA Web site: http://www.epa.gov/region5/ohioreview. You may also access this information at the following repositories located in Ohio: Public Library of Cincinnati & Hamilton County, 800 Vine Street, Cincinnati; Public Library of Youngstown & Mahoning County, 305 Wick Avenue, Youngstown; Columbus Metropolitan Library, 96 South Grant Avenue, Columbus; Toledo-Lucas County Public Library, 325 Michigan Street, Toledo; Briggs Lawrence County Public Library, 321 South Fourth Street, Ironton; Cleveland Public Library, 325 Superior Avenue, Cleveland; State of Ohio Senate, Senate Building, Energy, Natural Resources & Environment, Room 143, First Floor, Columbus; Dayton & Montgomery County Public Library, 215 East Third Street, Dayton; Washington County Public Library, 615 Fifth Street, Marietta; Dover Public Library, 525 North Walnut Street, Dover; State of Ohio House of Representatives, Environmental Committee, 77 South High Street, 13th Floor, Columbus.

As discussed in detail in the final report and background documents, EPA did not find sufficient evidence to justify withdrawal or revocation of the programs covered by the petition. Therefore, EPA denied the petition to withdraw or revoke its approval, delegation, or authorization from the State of Ohio to administer certain Clean Air Act, Clean Water Act, and Resource Conservation and Recovery Act environmental programs by letter dated February 7, 2003.

Dated: February 7, 2003.
Thomas V. Skinner,
Regional Administrator, Region 5.

[FR Doc. 03-4259 Filed 2-21-03; 8:45 am]

BILLING CODE 6560-50-P